ENVIRONMENTAL PROTECTION AGENCY

[ER-FRL-9028-8]

Environmental Impact Statements; Notice of Availability

AGENCY: Office of Federal Activities, EPA.

ACTION: Notice.

SUMMARY: Weekly receipt of Environmental Impact Statements (EISs).

Filed 08/22/2016 Through 08/26/2016.

FOR FURTHER INFORMATION CONTACT: General Information (202) 564-7146 or http://www.epa.gov/nepa

SUPPLEMENTARY INFORMATION: Pursuant to 40 CFR 1506.9.

Section 309(a) of the Clean Air Act requires that EPA make public its comments on EISs issued by other Federal agencies. EPA's comment letters on EISs are available at: http://www.epa.gov/compliance/nepa/eisdata.html.

EIS No. 20160193, Final, DOS, CA, Otay Mesa Conveyance and Disinfection System Project, Review Period Ends: 10/03/2016, Contact: Jill Reilly 202-647-9798.

EIS No. 20160194, Final, FAA, AK, Angoon Airport Project, Review Period Ends: 10/03/2016, Contact: Leslie Grey 907-271-5453.

EIS No. 20160195, Draft, FHWA, NC, I-4400/I-4700—I-26 Widening, Comment Period. Ends: 10/31/2016, Contact: Clarence Coleman 919-747-7014.

EIS No. 20160196, Final, NPS, PRO, Revision of 9B Regulations Governing Non-Federal Oil and Gas Activities, Review Period Ends: 10/03/2016, Contact: Michael B. Edwards 303-969-2694.

EIS No. 20160197, Draft, NOAA, HI, Heeia National Estuarine Research Reserve, Comment Period Ends: 10/17/2016, Contact: Jean Tanimoto 808-725-5253.

EIS No. 20160198, Final, NOAA, USFWS, MI, Programmatic—Restoration Resulting from the Kalamazoo River Natural Resource Damage Assessment, Review Period Ends: 10/03/2016, Contact: Lisa Williams 517-351-8324. The U.S. Department of the Interior's Fish and Wildlife Service and the U.S. Department of Commerce's National Oceanic and Atmospheric Administration are joint lead agencies for the above project.

EIS No. 20160199, Final, BLM, UT, Proposed Resource Management Plans for the Beaver Dam Wash and Red Cliffs National Conservation Areas; Proposed Amendment to the St. George Field Office Resource Management Plan, Review Period Ends: 10/03/2016, Contact: Keith Rigtrup 435-865-3063.

EIS No. 20160200, Draft, USACE, NY, Atlantic Coast of New York, East Rockaway Inlet to Rockaway Inlet and Jamaica Bay, Comment Period Ends: 11/02/2016, Contact: Robert J. Smith 917-790-8729.

Amended Notices

EIS No. 20160188, Final, NHTSA, NAT, Phase 2 Fuel Efficiency Standards for Medium- and Heavy-Duty Engines and Vehicles, Contact: James Tamm 202-493-0515.

Revision to FR Notice Published 08/26/2016; Change Review Period to No Review Period.

Under 49 U.S.C. 304a(b), NHTSA has issued a Final EIS and ROD. Therefore, the 30-day wait/review period under NEPA does not apply to this action.

Dated: August 30, 2016.
Dawn Roberts,
Management Analyst, NEPA Compliance Division, Office of Federal Activities.

[FR Doc. 2016-21198 Filed 9-1-16; 8:45 am]

BILLING CODE 6560-50-P